INTERNATIONAL TRADE COMMISSION

[Investigation Nos. 701-TA-447 and 731-TA-1116 (Review)]

Circular Welded Carbon-Quality Steel Pipe From China

Determination

On the basis of the record ¹ developed in the subject five-year reviews, the United States International Trade Commission (Commission) determines, pursuant to section 751(c) of the Tariff Act of 1930 (19 U.S.C. 1675(c)), that revocation of the antidumping and countervailing duty orders on circular welded carbon-quality steel pipe from China would be likely to lead to continuation or recurrence of material injury to an industry in the United States within a reasonably foreseeable time.²

¹ The record is defined in sec. 207.2(f) of the Commission's Rules of Practice and Procedure (19 CFR 207.2(f)).

² Commissioner F. Scott Kieff did not participate in these reviews.

Background

The Commission instituted these reviews on June 3, 2013 (78 FR 33108) and determined on September 6, 2013 that it would conduct expedited reviews (78 FR 59371, September 26, 2013).³

³ Due to the lapse in appropriations and ensuing cessation of Commission operations, all import injury investigations conducted under authority of Title VII of the Tariff Act of 1930 have been tolled by 16 days pursuant to 19. U.S.C. 1675(c)(5)(C)(ii).

The Commission completed and filed its determination in these reviews on November 18, 2013. The views of the Commission are contained in USITC Publication 4435 (November 2013), entitled Circular Welded Carbon-Quality Steel Pipe from China: Investigation Nos. 701-TA-447 and 731-TA-1116 (Review).

By order of the Commission.
Issued: November 19, 2013.
Lisa R. Barton,
Acting Secretary to the Commission.

[FR Doc. 2013-28022 Filed 11-21-13; 8:45 am]

BILLING CODE 7020-02-P